DEPARTMENT OF HEALTH AND HUMAN SERVICES

National Institutes of Health

National Institute of Dental & Craniofacial Research; Notice of Meeting

Pursuant to section 10(d) of the Federal Advisory Committee Act, as amended (5 U.S.C. Appendix 2), notice is hereby given of a meeting of the Board of Scientific Counselors, National Institute of Dental and Craniofacial Research.

The meeting will be open to the public as indicated below, with attendance limited to space available. Individuals who plan to attend and need special assistance, such as sign language interpretation or other reasonable accommodations, should notify the Contact Person listed below in advance of the meeting.

The meeting will be closed to the public as indicated below in accordance with the provisions set forth in section 552b(c)(6), Title 5 U.S.C., as amended for the review, discussion, and evaluation of individual intramural programs and projects conducted by the National Institute of Dental & Craniofacial Research, including consideration of personnel qualifications and performance, and the competence of individual investigators, the disclosure of which would constitute a clearly unwarranted invasion of personal privacy.

Name of Committee: Board of Scientific Counselors, National Institute of Dental and Craniofacial Research, Gene Therapy & Therapeutics & Molecular Structural Biology Section.

Date: December 7-8, 2000.

Closed: December 7, 2000, 8:30 a.m. to 9 a.m.

Agenda: To review and evaluate personal qualifications and performance, and competence of individual investigators.

Place: NIH, Building 30, Room 132, Bethesda, MD 20892.

Closed: December 7, 2000, 4:20 p.m. to 6 p.m.

Agenda: To review and evaluate personal qualifications and performance, and competence of individual investigators.

Place: NIH, Building 30, Room 132, Bethesda, MD 20892.

Open: December 8, 2000, 8:30 a.m. to 11:55 a.m.

Agenda: Laboratory Tours, Poster Presentations.

Place: NIH, Building 30, Room 132, Bethesda, MD 20892.

Closed: December 8, 2000, 12:05 p.m. to 4:30 p.m.

Agenda: To review and evaluate meeting Report Formulation, Exit Interviews.

Place: NIH, Building 30, Room 132, Bethesda, MD 20892.

Contact Person: Wendy A. Liffers, JD, Director, Office of Science Policy & Analysis, National Institute of Dental & Craniofacial Res., 31 Center Drive, Rm. 5B55, Bethesda, MD 20892-2190.

This notice is being published less than 15 days prior to the meeting due to the urgent need to meet timing limitations imposed by the intramural research review cycle.

(Catalogue of Federal Domestic Assistance Program Nos. 93.121, Oral Diseases and Disorders Research, National Institutes of Health, HHS)

Dated: November 22, 2000.
LaVerne Y. Stringfield,
Director, Office of Federal Advisory Committee Policy.

[FR Doc. 00-30709 Filed 12-1-00; 8:45 am]

BILLING CODE 4140-01-M